NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection:

NUREG/BR-0238, Materials Annual Fee Billing Handbook

NUREG/BR-0239, Financial EDI Authorization (NRC Form 628, “Financial EDI Authorization”)

NUREG/BR-0253, Electronic Funds Transfer—Fact Sheet

NUREG/BR-0254, Payment Methods (NRC Form 629, “Authorization for Payment by Credit Card”)

2. Current OMB approval number: 3150-0190.

3. How often the collection is required: Annually.

4. Who is required or asked to report: Anyone doing business with the Nuclear Regulatory Commission, including licensees, applicants, and individuals who are required to pay a fee for inspections and licenses.

5. The number of annual respondents: 530 (50 for the NRC Form 628 and 480 for NRC Form 629).

6. The number of hours needed annually to complete the requirement or request: 42 (4 hours for NRC Form 628 and 38 hours for NRC Form 629).

7. Abstract: The U.S. Department of the Treasury encourages the public to pay monies owed the government through use of the Automated Clearinghouse Network and credit card. These two methods of payment are used by licensees, applicants, and individuals to pay civil penalties, full cost licensing fees, and inspection fees to the NRC.

Submit, by November 27, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F23, Rockville, MD 20852. OMB clearance requests are available at the NRC worldwide web site: http://www.nrc.gov/NRC/PUBLIC/OMB/index.html. The document will be available on the NRC home page site for 60 days after the signature date of this notice.

Comments and questions about the information collection requirements may be directed to the NRC Clearance Officer, Brenda Jo. Shelton, U.S. Nuclear Regulatory Commission, T-6 E6, Washington, DC 20555-0001, by telephone at 301-415-7233, or by Internet electronic mail at BJS1@NRC.GOV.

Dated at Rockville, Maryland, this 24th day of September 2001.
For the Nuclear Regulatory Commission.
Brenda Jo Shelton,
NRC Clearance Officer, Office of the Chief Information Officer.

[FR Doc. 01-24340 Filed 9-27-01; 8:45 am]

BILLING CODE 7590-01-P